NUCLEAR REGULATORY COMMISSION

[Docket No. 50-263-LR, ASLBP No. 05-841-02-LR]

Nuclear Management Company, LLC; Notice of Reconstitution

Pursuant to 10 CFR 2.321, the Atomic Safety and Licensing Board in the above captioned Nuclear Management Company, LLC proceeding is hereby reconstituted by appointing Administrative Judge William M. Murphy in place of Administrative Judge Anthony J. Baratta.

In accordance with 10 CFR 2.302, henceforth all correspondence, documents, and other material relating to any matter in this proceeding over which this Licensing Board has jurisdiction should be served on Administrative Judge Murphy as follows:

Administrative Judge William M. Murphy, Atomic Safety and Licensing Board Panel, U.S. Nuclear Regulatory Commission, Washington, DC 20555-0001.

Issued at Rockville, Maryland this 25th day of August 2005.
G. Paul Bollwerk, III,
Chief Administrative Judge, Atomic Safety and Licensing Board Panel.

[FR Doc. E5-4785 Filed 8-31-05; 8:45 am]

BILLING CODE 7590-01-P